DEPARTMENT OF TRANSPORTATION

Maritime Administration

[Docket No. MARAD 2014-0040]

Request for Comments of a Previously Approved Information Collection

AGENCY: Maritime Administration (MARAD), Department of Transportation.

ACTION: Notice and request for comments.

SUMMARY: In compliance with the Paperwork Reduction Act of 1995 (44 U.S.C. 3501 et seq.), this notice announces that the Information Collection Request (ICR) abstracted below is being forwarded to the Office of Management and Budget (OMB) for review and comments. A Federal Register Notice with a 60-day comment period soliciting comments on the following information collection was published on November 29, 2013 (Federal Register 71705, Vol. 78, No. 230).

DATES: Comments must be submitted on or before April 14, 2014.

FOR FURTHER INFORMATION CONTACT: Linden Houston, Office of Deepwater Ports and Offshore Activities, MAR-530, Maritime Administration, U.S. Department of Transportation, 1200 New Jersey Avenue SE., Washington, DC 20590, (202) 366-4839.

SUPPLEMENTARY INFORMATION:

Title: Application for Conveyance of Port Facility Property, formerly, Port Facility Conveyance Information.

OMB Control Number: 2133-0524.

Type of Request: Renewal of a Previously Approved Information Collection.

Abstract: Section 2927 of Public Law 103-160 authorizes the Department of Transportation to convey excess federal real and related personal property needed by states and local government entities for the development or operation of a port facility. The requested information is required to evaluate the applicants need and eligibility for the property. Compliance data is required on a yearly basis to determine if conveyed property is being used in accordance with the terms of the conveyance.

Affected Public: Eligible state and local public entities.

Estimated Number of Respondents: 10.

Estimated Number of Responses: 10.

Annual Estimated Total Annual Burden Hours: 440.

ADDRESSES: Send comments regarding the burden estimate, including suggestions for reducing the burden, to the Office of Management and Budget, Attention: Desk Officer for the Office of the Secretary of Transportation, 725 17th Street NW., Washington, DC 20503.

Comments are invited on: Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology.

Authority: The Paperwork Reduction Act of 1995; 44 U.S.C. Chapter 35, as amended; and 49 CFR 1:93.

Dated: March 10, 2014.
Julie P. Agarwal,
Secretary, Maritime Administration.

[FR Doc. 2014-05723 Filed 3-13-14; 8:45 am]

BILLING CODE 4910-81-P